DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information for relevant dates.

FOR FURTHER INFORMATION CONTACT: OFAC: Lisa M. Palluconi, Acting Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On September 12, 2024, OFAC determined that the property and interests in property subject to U.S. jurisdiction of the following persons are blocked under the relevant sanctions authority listed below.

Individual

1. LY, Yong Phat (a.k.a. “PAD SUPA”; a.k.a. “PAT SUPAPHA”; a.k.a. “PHAT SUPHAPHA”; a.k.a. “PHAT, Suphapha”; a.k.a. “PUT SUPAPA”), 9352 Moo 1 Wangkraja Amphur Muang, Trat Trat 23000, Thailand; DOB 07 Jan 1958; POB Thmor Sor Village, Thmor Sor Commune, Botum Sakor District, Koh Kong Province, Cambodia; alt. POB Trat, Thailand; nationality Cambodia; alt. nationality Thailand; Gender Male; National ID No. 5230200031049 (Thailand) (individual) [GLOMAG].

Designated pursuant to section (1)(a)(ii)(A) of Executive Order 13818 of December 20, 2017, “Blocking the Property of Persons Involved in Serious Human Rights Abuse or Corruption,” 82 FR 60839, 3 CFR, 2017 Comp., p. 399, (E.O. 13818) for being a foreign person who is responsible for or complicit in, or has directly or indirectly engaged in, serious human rights abuse.

Entities

1. L.Y.P. GROUP CO., LTD (a.k.a. L.Y.P. GROUP), Neang Kok, Bak Khlang, Mondol Seima, Koh Kong 9351, Cambodia; N. 205-209, Mao Tse Tong Boulevard, Sangkat, Toul Svay Prey I, Khan Chamkamo, Phnom Penh, Cambodia; website www.lypgroup.com; Email Address fc@gardencityhotel.com.kh; Organization Established Date 28 Sep 2017; Organization Type: Short term accommodation activities; Tax ID No. L001-360000010 (Cambodia) [GLOMAG] (Linked To: LY, Yong Phat).

Designated pursuant to section (1)(a)(ii)(A) of Executive Order 13818 of December 20, 2017, “Blocking the Property of Persons Involved in Serious Human Rights Abuse or Corruption,” 82 FR 60839, 3 CFR, 2017 Comp., p. 399, (E.O. 13818) for being a foreign person who is responsible for or complicit in, or has directly or indirectly engaged in, serious human rights abuse.

2. O-SMACH RESORT (a.k.a. O SMACH RESORT; a.k.a. O'SMACH CASINO RESORT), National Highway 68, Krong Samraong, Cambodia; Organization Established Date 01 Jan 2000; Organization Type: Short term accommodation activities; alt. Organization Type: Gambling and betting activities [GLOMAG] (Linked To: LY, Yong Phat).

Designated pursuant to section (1)(a)(ii)(A) of Executive Order 13818 of December 20, 2017, “Blocking the Property of Persons Involved in Serious Human Rights Abuse or Corruption,” 82 FR 60839, 3 CFR, 2017 Comp., p. 399, (E.O. 13818) for being a foreign person who is responsible for or complicit in, or has directly or indirectly engaged in, serious human rights abuse.

3. GARDEN CITY HOTEL, #205, Mao Tse Tong Boulevard (388), Sangkat Chamkarmon, Phnom Penh, Cambodia; Street Ly Yong Phat, Phum Prek Tarath, Khum Prek Tasek Khan, 12111, Cambodia-Japan Friendship Bridge, Phnom Penh, Cambodia; website www.gardencityhotel.com.kh; Email Address info@gardencityhotel.com.kh; Phone Number 855 66 678 716; Organization Type: Short term accommodation activities [GLOMAG] (Linked To: LY, Yong Phat).

Designated pursuant to section (1)(a)(iii)(B) of Executive Order 13818 of December 20, 2017, “Blocking the Property of Persons Involved in Serious Human Rights Abuse or Corruption,” 82 FR 60839, 3 CFR, 2017 Comp., p. 399, (E.O. 13818) for being owned or controlled by, or having acted or purported to act for or on behalf of, directly or indirectly, LY, an individual concurrently designated pursuant to E.O. 13818.

4. KOH KONG RESORT (a.k.a. KOH KONG CASINO RESORT; a.k.a. KOH KONG RESORT AND CASINO; a.k.a. KOH RONG RESORT AND CASINO), Phum Cham Yeam, Khum Paklong, Srok Mondul Seyma, AH123, Khum Pak Khlang, Cambodia; Email Address info@kohkongresort.com; Phone Number 85 51 155 5706; Organization Established Date 1998; Organization Type: Short term accommodation activities [GLOMAG] (Linked To: LY, Yong Phat).

Designated pursuant to section (1)(a)(iii)(B) of Executive Order 13818 of December 20, 2017, “Blocking the Property of Persons Involved in Serious Human Rights Abuse or Corruption,” 82 FR 60839, 3 CFR, 2017 Comp., p. 399, (E.O. 13818) for being owned or controlled by, or having acted or purported to act for or on behalf of, directly or indirectly, LY, an individual concurrently designated pursuant to E.O. 13818.

5. PHNOM PENH HOTEL, No. 53 Monivong Boulevard, Phnom Penh, Phnom Penh, Cambodia; No. 53 Monivong Boulevard, Sangkat Srah Chok, P.O. Box 1131, Phnom Penh 12201, Cambodia; website www.phnompenhhotel.com; Email Address info@phnompenhhotel.com; Phone Number 855 23 991 868; Organization Established Date 2003; Organization Type: Short term accommodation activities [GLOMAG] (Linked To: LY, Yong Phat).

Designated pursuant to section (1)(a)(iii)(B) of Executive Order 13818 of December 20, 2017, “Blocking the Property of Persons Involved in Serious Human Rights Abuse or Corruption,” 82 FR 60839, 3 CFR, 2017 Comp., p. 399, (E.O. 13818) for being owned or controlled by, or having acted or purported to act for or on behalf of, directly or indirectly, LY, an individual concurrently designated pursuant to E.O. 13818.

Dated: September 12, 2024.
Lisa M. Palluconi,
Acting Director, Office of Foreign Assets Control, U.S. Department of the Treasury.

[FR Doc. 2024-28085 Filed 11-29-24; 8:45 am]

BILLING CODE 4810-AL-P